DEPARTMENT OF COMMERCE

International Trade Administration

[A-583-810]

Chrome-Plated Lug Nuts From Taiwan; Final Results of Antidumping Duty Administrative Review

AGENCY: Import Administration, International Trade Administration, Department of Commerce.

ACTION: Notice of Final Results of Antidumping Duty Administrative Review of Chrome-Plated Lug Nuts From Taiwan.

SUMMARY: On October 12, 1999, the Department of Commerce (“the Department”) published the preliminary results of administrative review of the antidumping duty order on chrome-plated lug nuts from Taiwan. See Chrome-Plated Lug Nuts From Taiwan; Preliminary Results of Antidumping Duty Administrative Review, 64 FR 55234 (October 12, 1999) (“Preliminary Results”). The review covered the following manufacturers/exporters of the subject merchandise to the United States for the period of review (“POR”) September 1, 1997, through August 31, 1998: Anmax Industrial Co., Ltd. (“Anmax”), Buxton International Corporation (“Buxton”), Chu Fong Metallic Electric Co. (“Chu Fong”), Everspring Plastic Corp. (“Everspring”), Gingen Metal Corp. (“Gingen”), Gourmet Equipment (Taiwan) Corporation (“Gourmet”), Hwen Hsin Enterprises Co., Ltd. (“Hwen”), Kwan How Enterprises Co., Ltd. (Kwan Ta Enterprises Co. Ltd (“Kwan Ta”), Kuang Hong Industries, Ltd. (“Kuang”), Multigrand Industries Inc. (“Multigrand”), San Chien Electric Industrial Works, Ltd, (“San Chien”), San Shing Hardware Works Co., Ltd. (“San Shing”), Transcend International Co. (“Transcend”), Trade Union International Inc./Top Line (“Trade Union”), Uniauto, Inc. (“Uniauto”) and Wing Tang Electrical Manufacturing Company, Inc. (“Wing”). We gave interested parties an opportunity to comment on the preliminary results of review but received no comments. The dumping margins have not changed from those determined for the preliminary results.

EFFECTIVE DATE: (Insert date of publication in the Federal Register.)

FOR FURTHER INFORMATION CONTACT: Nova Daly or Thomas Futtner, Import Administration, International Trade Administration, U.S. Department of Commerce, 14th Street and Constitution Avenue, NW., Washington, DC 20230; telephone (202) 482-0989 or (202) 482-3814, respectively.

SUPPLEMENTARY INFORMATION:

Applicable Statute and Regulations

Unless otherwise indicated, all citations to the statute are references to the provisions effective January 1, 1995, the effective date of the amendments made to the Tariff Act of 1930, as amended, (“the Act”) by the Uruguay Round Agreements Act (“URAA”). In addition, unless otherwise indicated, all citations to the Department's regulations refer to the regulations codified at 19 CFR part 351 (1999).

Scope of the Review

On December 12, 1996, the Department issued its “Final Scope Clarifications on Chrome-Plated Lug Nuts from Taiwan and the PRC.” The scope, as clarified, is described in the subsequent paragraph. All lug nuts covered by this review conform to the December 12, 1996 scope clarification.

The products covered by the order and this review are one-piece and two-piece chrome-plated and nickel-plated hug nuts from Taiwan. The subject merchandise includes chrome-plated and nickel-plated lug nuts, finished or unfinished, which are more than 11/16 inches (17.45 millimeters) in height and which have a hexagonal (hex) size of at least ¾ inches (19.05 millimeters), but not over one inch (25.4 millimeters), plus or minus 11/16 of an inch (1.59 millimeters). The term “unfinished” refers to unplated and/or unassembled chrome-plated lug nuts. The subject merchandise is used for securing wheels to cars, vans, trucks, utility vehicles, and trailers. Excluded from the order are zinc-plated lug nuts, finished or unfinished, stainless-steel capped lug nuts and chrome-plated lock nuts.

The merchandise under review currently is classifiable under item 7318.16.00 of the Harmonized Tariff Schedule of the United States (“HTSUS”). Although the HTSUS subheading is provided for convenience and Customs purposes, the written description of this merchandise is dispositive.

Background

Since the publication of the Preliminary Results, the Department gave interested parties an opportunity to comment on our findings. We received no comments. In the preliminary results, we determined that, because questionnaires sent to Transcend, Kwan How, Kwan Ta, Kuang, Everspring, and Gingen were returned as undeliverable, these companies were considered “unlocated companies”, and, in accordance with our practice with respect to companies to which we cannot send a questionnaire, we assigned them the “all others” rate established in the less-than-fair-value (“LTFV”) investigation, which was 6.93 percent. See Preliminary Results, 64 FR at 550234. For the remaining companies, in accordance with section 776(a) of the Act, we determine that the use of facts available was appropriate as the basis for dumping margins for Anmax, Buxton, Chu Fong, Multigrand, Uniauto, Hwen, San Chien, San Shing, Wing, Trade Union, and Gourmet. Preliminary Results, 64 FR at 55235, 55236.

Final Results of Review

We have determined that no changes to the preliminary results are warranted for purposes of these final results. The weighted-average dumping margins for the period September 1, 1997, through August 31, 1998 are as follows:

Manufacturer/exporter | Weighted-average margin percentage
Gourmet Equipment (Taiwan) Corporation | 10.67
Buxton International/Uniauto | 10.67
Chu Fong Metallic Electric Co. | 10.67
Transcend International | 6.93
San Chien Industrial Works, Ltd | 10.67
Anmax Industrial Co., Ltd | 10.67
Everspring Plastic Corp. | 6.93
Gingen Metal Corp. | 6.93
Hwen Hsin Enterprises Co., Ltd. | 10.67
Kwan How Enterprises Co., Ltd. | 6.93
Kwan Ta Enterprises Co., Ltd. | 6.93
Kuang Hong Industries Ltd. | 6.93
Multigrand Industries Inc. | 10.67
San Shing Hardware Works Co., Ltd | 10.67
Trade Union International Inc./Top Line | 10.67
Uniauto, Inc. | 10.67
Wing Tang Electrical Manufacturing Company | 10.67

The Department will issue appraisement instructions directly to the Customs Service. Furthermore, the following deposit requirements will be effective upon publication of these final results for all shipments of the subject merchandise entered, or withdrawn from warehouse, for consumption on or after the publication date as provided by section 751(a)(1) of the Act: (1) The cash-deposit rate for the reviewed companies will be the rates listed above; (2) for previously reviewed or investigated companies not listed above, the cash-deposit rate will continue to be the company-specific rate published for the most recent period; (3) if the exporter is not a firm covered in this review, a prior review, or the LTFV investigation, but the manufacturer is, the cash-deposit rate will be the rate established for the most recent period for the manufacturer of the merchandise; and (4) if neither the exporter nor the manufacturer is a firm covered in this or any previous reviews or the original investigation, the cash deposit rate will be 6.93 percent, the “all others” rate established in the LTFV investigation. The deposit requirements shall remain in effect until publication of the final results of the next administrative review.

This notice serves as a final reminder to importers of their responsibility under 19 CFR 351.402(f) to file a certificate regarding the reimbursement of antidumping duties prior to liquidation of the relevant entries during this review period. Failure to comply with this requirement could result in the Department's presumption that reimbursement of antidumping duties occurred and the subsequent assessment of double antidumping duties.

This notice also serves as the only reminder to parties subject to administrative protective order (“APO”) of their responsibility concerning the disposition of proprietary information disclosed under APO in accordance with 19 CFR 351.305(a)(3). Timely notification of return/destruction of APO materials or conversion to judicial protective order is hereby requested. Failure to comply with the regulations and the terms of an APO is a sanctionable violation.

We are issuing and publishing this determination in accordance with sections 751(a)(1) and 777(i)(1) of the Act.

Dated: February 9, 2000.
Robert S. LaRussa,
Assistant Secretary for Import Administration.

[FR Doc. 00-3556 Filed 2-14-00; 8:45 am]

BILLING CODE 3510-DS-M